DEPARTMENT OF LABOR

Employment and Training Administration

[TA-W-62,964]

G-III Apparel Group, Starlo Dresses Division, Computer Patterns Team, New York, NY; Notice of Negative Determination Regarding Application for Reconsideration

By application dated April 22, 2008, petitioners requested administrative reconsideration of the Department's negative determination regarding eligibility to apply for Trade Adjustment Assistance (TAA), applicable to workers and former workers of the subject firm. The denial notice was signed on March 24, 2008 and published in the Federal Register on April 11, 2008 (73 FR 19900).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination signed on March 24, 2008 was based on the finding that imports of electronically marked and graded patterns did not contribute importantly to worker separations at the subject plant and there was no shift of production to a country that is a party to a free trade agreement with the United States or a beneficiary country. The “contributed importantly” test is generally demonstrated through a survey of the workers' firm's declining domestic customers. In this instance, the subject firm did not sell electronically marked and graded patterns to outside domestic customers, thus a survey was not conducted. The subject firm did not import electronically marked and graded patterns into the United States during the relevant period.

In the request for reconsideration the petitioner refers to the events which have occurred at the subject facility since 1998.

When assessing eligibility for TAA, the Department exclusively considers import impact during the relevant time period (one year prior to the date of the petition). Events occurring prior to February 19, 2007 are outside of the relevant time period and thus cannot be considered in this investigation.

The petitioner also alleges that the statement in the initial investigation “* * * the patterns were used exclusively in China* * *” is erroneous and that some patterns were manufactured for a domestic market. To support this allegation, the petitioner provided the name of a domestic retail company, which allegedly purchased products from the subject firm in the relevant time period.

The Department contacted a company official to address these allegations. The company official stated that G-III Apparel Group, Starlo Dresses Division, Computer Patterns Team, New York, New York does not sell any electronically marked and graded patterns to the retailers or any other companies. All patterns are the property of the subject firm and are used in the in-house factories to create dresses. The company official also clarified that the customer mentioned by the petitioner is a retailer who buys dresses from the subject firm and not electronically marked and graded patterns.

The petitioner stated that jobs were shifted from the subject facility to China.

The investigation confirmed that production of electronically marked and graded patterns indeed was shifted to China. However, the investigation also revealed that the subject firm did not import electronically marked and graded patterns from China back into the United States during the relevant period.

The petitioner further stated that workers of the subject firm were previously employed at other companies, which were certified for TAA.

The two companies indicated by the petitioner were certified eligible for TAA in August 2001 and April 2007 since the companies increased imports of samples of dresses, and wedding and bridesmaid gowns. The certifications of these companies are not relevant to this investigation.

Conclusion

After review of the application and investigative findings, I conclude that there has been no error or misinterpretation of the law or of the facts which would justify reconsideration of the Department of Labor's prior decision. Accordingly, the application is denied.

Signed in Washington, DC, this 29th day of May, 2008.
Elliott S. Kushner,
Certifying Officer, Division of Trade Adjustment Assistance.

[FR Doc. E8-12389 Filed 6-3-08; 8:45 am]

BILLING CODE 4510-FN-P